SMALL BUSINESS ADMINISTRATION

[Declaration of Disaster #3650]

State of New York

As a result of the President's major disaster declaration for Public Assistance on October 1, 2004 and subsequent amendments adding Individual Assistance and establishing the incident period on November 16, 2004, I find that Allegany, Broome, Cattaraugus, Madison, Monroe, Niagara, Oneida, Onondaga, Orange, Orleans, Steuben, Sullivan, Ulster, and Wayne Counties in the State of New York constitute a disaster area due to damages caused by severe storms and flooding occurring on August 13, 2004 and continuing through September 16, 2004. Applications for loans for physical damage as a result of this disaster may be filed until the close of business on January 18, 2005 and for economic injury until the close of business on August 16, 2005 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Cayuga, Chautauqua, Chemung, Chenango, Columbia, Cortland, Delaware, Dutchess, Erie, Genesee, Greene, Herkimer, Lewis, Livingston, Ontario, Oswego, Otsego, Putnam, Rockland, Schuyler, Seneca, Tioga, Westchester, Wyoming, and Yates in the State of New York; Passaic and Sussex Counties in the State of New Jersey; and McKean, Pike, Potter, Susquehanna, Tioga, Warren, and Wayne Counties in the Commonwealth of Pennsylvania.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 365006. For economic injury the number is 9AJ500 for New York; 9AK100 for New Jersey; and 9AK200 for Pennsylvania.

(Catalog of Federal Domestic Assistance Program Nos. 59002 and 59008).

Dated: November 17, 2004.
Herbert L. Mitchell,
Associate Administrator for Disaster Assistance.

[FR Doc. 04-26013 Filed 11-23-04; 8:45 am]

BILLING CODE 8025-01-P